DEPARTMENT OF HEALTH AND HUMAN SERVICES

Centers for Disease Control and Prevention

Elimination of Endemic Measles From the United States: Meeting

The Centers for Disease Control and Prevention (CDC) announces the following meeting:

Name: Elimination of Endemic Measles from the United States.

Times and Dates: 8:30 a.m.-6 p.m., March 16, 2000 and 8 a.m.-12 p.m., March 17, 2000.

Place: Hyatt Regency Atlanta, 265 Peachtree Street, Atlanta, Georgia 30303.

Status: Open to the public, limited only by the space available.

Purpose: To evaluate progress toward the national goal of elimination of measles as an endemic disease in the United States. The Centers for Disease Control and Prevention is convening a meeting of a panel of measles and public health experts serving as simultaneous individual consultants. The experts will review the information pertaining to the epidemiology and surveillance of measles in the United States and give their opinions as to whether the Healthy People 2000 objective of elimination of endemic measles from the United States has been met.

Matters to be Discussed: The agenda will include a working definition of measles elimination for the United States; simple mathematical concepts related to measles elimination; using basic surveillance data to evaluate measles elimination; measles epidemiology in the United States 1997-1999; measles virologic surveillance; adequacy of measles surveillance; lack of evidence for transmission of measles virus from people with inapparent measles infection; measles vaccination coverage levels and population immunity to measles in the United States and global perspective of measles elimination. Other matters of relevance to the panel's objectives may be discussed.

Agenda items are subject to change as priorities dictate.

Contact Person for More Information: Ed Yacovone, Deputy Branch Chief, Child Vaccine Preventable Diseases Branch, Epidemiology and Surveillance Division, National Immunization Program, CDC,1600 Clifton Road, NE, m/s E61, Atlanta, Georgia 30333. Telephone 404/639-8855.

The Director, Management Analysis and Services office has been delegated the authority to sign Federal Register notices pertaining to announcements of meetings and other committee management activities for both the Centers for Disease Control and Prevention and the Agency for Toxic Substances and Disease Registry.

Dated: February 17, 2000.
Carolyn J. Russell,
Director, Management Analysis and Services Office Centers for Disease Control and Prevention (CDC).

[FR Doc. 00-4334 Filed 2-23-00; 8:45 am]

BILLING CODE 4163-18-P